DEPARTMENT OF ENERGY

Federal Energy Regulatory Commission

[Project No. 2216-066-NY]

New York Power Authority; Notice of Intent To Prepare Environmental Impact Statement

November 7, 2005.

On August 18, 2005, the New York Power Authority (NYPA) filed an application for a new license for the continued operation of the 2,538-megawatt Niagara Power Project (FERC No. 2216-066). On August 19, 2005, NYPA filed an Offer of Settlement for the new license. The project is located on the Niagara River in Niagara County, New York. The project does not occupy any federal lands.

In accordance with the National Environmental Policy Act (NEPA) and the Commission's regulations for using the alternative licensing process,¹ Commission staff held public scoping meetings for the Niagara Power Project on August 13, 2003, in Niagara Falls, New York. Commission staff, State, Federal and local agencies, tribes, and the public participated in the meetings. These scoping meetings and an open and extensive collaborative relicensing process were used to define the issues and alternatives addressed in NYPA's application.

¹ 81 FERC ¶ 61,103 (1997).

Based on comments received, since the scoping meeting, Commission staff have determined that licensing the Niagara Power Project could constitute a major federal action significantly affecting the quality of the human environment. Therefore, staff intend to prepare an Environmental Impact Statement for the project. The staff's EIS will objectively consider both site-specific and cumulative environmental impacts of the project and reasonable alternatives, and will include economic and engineering analyses.

A draft EIS will be issued and circulated for review by all interested parties. All comments filed on the draft EIS will be analyzed by the staff and considered in the final EIS. The staff's conclusions and recommendations will be available for the consideration of the Commission in reaching its final licensing decision. This notice informs all interested individuals, organizations, and agencies with environmental expertise and concerns, that: (1) The Commission staff has decided to prepare an EIS and (2) the scoping conducted on the Niagara Power Project by Commission staff and comments filed with the Commission on the application and the Offer of Settlement will be taken into account in the EIS. Any questions regarding this notice may be directed to Steve Kartalia at (202) 502-6131.

Magalie R. Salas,
Secretary.

[FR Doc. E5-6279 Filed 11-14-05; 8:45 am]

BILLING CODE 6717-01-P